Proclamation 9188 of October 3, 2014

To Modify the List of Beneficiary Developing Countries Under the Trade Act of 1974

By the President of the United States of America

A Proclamation

1. Sections 501(1) and (4) of the Trade Act of 1974 (the “1974 Act”) (19 U.S.C. 2461(1) and (4)), provide that, in determining whether duty-free treatment would be appropriate under the Generalized System of Preferences, the President shall have due regard for, among other factors, the effect such action would have on furthering the economic development of a beneficiary developing country through the expansion of its exports and the extent that the beneficiary developing country would be competitive with respect to eligible articles. Section 502(c) of the 1974 Act (19 U.S.C. 2462(c)), provides that, in determining whether to designate any country as a beneficiary developing country, the President shall take into account various factors, including the country's level of economic development, the country's per capita gross national product, the living standards of its inhabitants, and any other economic factors he deems appropriate. Section 502(d)(1) of the 1974 Act (19 U.S.C. 2462(d)(1)), authorizes the President to withdraw or suspend the designation of any country as a beneficiary developing country after considering the factors set forth in sections 501 and 502(c) of the 1974 Act. Section 502(f)(2) of the 1974 Act (19 U.S.C. 2462(f)(2)), requires the President to notify the Congress and the affected country, at least 60 days before termination, of the President's intention to terminate the affected country's designation as a beneficiary developing country.

2. Consistent with section 502(d) of the 1974 Act, and having considered the factors set forth in sections 501 and 502(c), I have determined that Russia is sufficiently advanced in economic development and improved in trade competitiveness that it is appropriate to terminate the designation of Russia as a beneficiary developing country effective October 3, 2014. I notified the Congress and Russia on May 7, 2014, of my intent to terminate Russia's designation. In order to reflect the termination of Russia's designation as a beneficiary developing country, I have determined that it is appropriate to modify general notes 4(a) and 4(d) and pertinent subheadings of the Harmonized Tariff Schedule of the United States (HTS).

3. Section 604 of the 1974 Act (19 U.S.C. 2483), authorizes the President to embody in the HTS the substance of the relevant provisions of that Act, and of other Acts affecting import treatment, and actions thereunder, including removal, modification, continuance, or imposition of any rate of duty or other import restriction.

NOW, THEREFORE, I, BARACK OBAMA, President of the United States of America, by virtue of the authority vested in me by the Constitution and the laws of the United States, including but not limited to title V and section 604 of the 1974 Act, do proclaim that:

(1) The designation of Russia as a beneficiary developing country is terminated, effective on October 3, 2014.

(2) In order to reflect the termination of Russia's designation as a beneficiary developing country, general notes 4(a) and 4(d) and pertinent subheadings of the HTS are modified as set forth in the Annex to this proclamation.

(3) Any provisions of previous proclamations and Executive Orders that are inconsistent with the actions taken in this proclamation are superseded to the extent of such inconsistency.

IN WITNESS WHEREOF, I have hereunto set my hand this third day of October, in the year of our Lord two thousand fourteen, and of the Independence of the United States of America the two hundred and thirty-ninth.

Billing code 3295-F5-P

[FR Doc. 2014-24217

Filed 10-7-14; 11:15 am]

Billing code 7020-02-C